OFFICE OF THE UNITED STATES TRADE REPRESENTATIVE

Visa Requirements Under the African Growth and Opportunity Act

AGENCY: Office of the United States Trade Representative.

ACTION: Directive to the commissioner of customs.

SUMMARY: In the letter published below, the United States Trade Representative directs the Commissioner of Customs to require that importers provide an appropriate export visa from a beneficiary sub-Saharan African country when claiming preferential treatment for entries of textile and apparel products under the African Growth and Opportunity Act.

EFFECTIVE DATE: January 18, 2001.

FOR FURTHER INFORMATION CONTACT: Bethany Schwartz, Director for African Affairs, Office of the United States Trade Representative, (202) 395-9514.

SUPPLEMENTARY INFORMATION: The African Growth and Opportunity Act (Title I of the Trade and Development Act of 2000, Public Law 106-200) (AGOA) provides preferential tariff treatment for imports of certain textile and apparel products of beneficiary sub-Saharan African countries. The textile and apparel trade benefits provided by the AGOA are available to imports of eligible products from countries that the President designates as “beneficiary sub-Saharan African countries,” provided that these countries (1) have adopted an effective visa system and related procedures to prevent unlawful transshipment and the use of counterfeit documents, and (2) have implemented and follow, or are making substantial progress toward implementing and following, certain customs procedures that assist the Customs Service in verifying the origin of the products.

In Proclamation 7350 of October 2, 2000, the President designated 34 countries as “beneficiary sub-Saharan African countries.” Proclamation 7350 delegated to the United States Trade Representative (USTR) the authority to determine whether these countries have met the two requirements described above. The President directed the USTR to announce any such determinations in the Federal Register and to implement them through modifications of the Harmonized Tariff Schedule of the United States (HTS).

By Executive Order (January 17, 2001), the President delegated to the USTR the authority to direct the Commissioner of Customs to take such actions as may be necessary to ensure that textile and apparel articles described in section 112(b) of the AGOA (19 U.S.C. 3721(b)) that are entered, or withdrawn from warehouse, for consumption are accompanied by an appropriate export visa, if the preferential treatment described in section 112(a) of the AGOA (19 U.S.C. 3721(a)) is claimed with respect to such articles.

In the letter published below, the USTR directs the Commissioner of Customs to require that importers provide an appropriate export visa from a beneficiary sub-Saharan African country when claiming preferential treatment under section 112(a) of the AGOA for eligible textile and apparel products that are entered, or withdrawn from warehouse, for consumption. This requirement is intended to ensure the effectiveness of the visa systems that beneficiary sub-Saharan African countries have adopted. A facsimile of the export visa stamp for each beneficiary sub-Saharan African country that the USTR has determined to have adopted an effective visa system and related procedures is available for public inspection in the USTR public reading room.

Importers claiming preferential tariff treatment under the AGOA for entries of textile and apparel articles should ensure that those entries meet the visa requirements set forth in the letter to the Commissioner published below.

Charlene Barshefsky,
United States Trade Representative.

Executive Office of the President

The United States Trade Representative, Washington, DC 20508

January 18, 2001.

Commissioner of Customs

U.S. Department of the Treasury, Ronald Reagan Building, 1300 Pennsylvania Avenue NW., Washington, DC 20229

Dear Commissioner: Pursuant to Sections 112(a) and 113(a)(1) of the African Growth and Opportunity Act (Title I of Pub. L. No. 106-200) (“AGOA”) (19 U.S.C. 3721(a) and 3722(a)(1)), the bilateral Visa Arrangements that have been or will be entered into with designated beneficiary sub-Saharan African countries, and the Executive Order signed by the President on January 17, 2001 regarding the implementation of the AGOA and the United States-Caribbean Basin Trade Partnership Act, you are directed to require importers claiming preferential treatment for textile and apparel articles under section 112(a) of the AGOA to provide an appropriate export visa issued by the country of origin of the articles. This requirement is effective with respect to eligible textile and apparel articles of a beneficiary sub-Saharan African country that are entered, or withdrawn from warehouse, for consumption on or after the date that the United States Trade Representative determines that such beneficiary sub-Saharan African country has adopted an effective visa system and related procedures and has implemented and follows, or is making substantial progress toward implementing and following, the customs procedures required by the AGOA.

A shipment shall be visaed by stamping an original circular visa, in blue ink only, on the front of the original commercial invoice. The original visa shall not be stamped on duplicate copies of the invoice. The original of the invoice with the original visa stamp shall be required to obtain preferential tariff treatment under section 112(a) of the AGOA. Duplicates of the invoice and/or visa may not be used for this purpose.

Each visa stamp shall include the following information:

1. Visa Number. The visa stamp shall be in a nine digit-letter format beginning with one numeric digit for the designated grouping (1 to 9), as described below. This number is to be followed by the two-character alpha code specified by the International Organization for Standardization (ISO) for the designated beneficiary sub-Saharan African country, followed by a six-digit numerical serial number identifying the shipment.

Grouping 1—Apparel articles assembled in one or more beneficiary sub-Saharan African countries from fabrics wholly formed and cut in the United States, from yarns wholly formed in the United States.

Grouping 2—Apparel articles assembled in one or more beneficiary sub-Saharan African countries from fabrics wholly formed and cut in the United States, from yarns wholly formed in the United States if, after such assembly, the articles would have qualified for entry under subheading 9802.00.80 of the Harmonized Tariff Schedule of the United States (“HTS”) but for the fact that the articles were embroidered or subject to stone-washing, enzyme-washing, acid washing, perma-pressing, oven baking, bleaching, garment-dyeing, screen printing, or other similar processes.

Grouping 3—Apparel articles cut in one or more beneficiary sub-Saharan African countries from fabric wholly formed in the United States from yarns wholly formed in the United States if such articles are assembled in one or more beneficiary sub-Saharan African countries with thread formed in the United States.

Grouping 4—Apparel articles wholly assembled in one or more beneficiary sub-Saharan African countries from fabric wholly formed in one or more beneficiary sub-Saharan African countries from yarn originating either in the United States or one or more beneficiary sub-Saharan African countries.

Grouping 5—Apparel articles wholly assembled in one or more lesser developed beneficiary sub-Saharan African countries regardless of the country of origin of the fabric used to make such articles.

Grouping 6—Sweaters in chief weight of cashmere, knit to shape in one or more beneficiary sub-Saharan African countries and classifiable under subheading 6110.10 of the HTS.

Grouping 7—Sweaters, 50 percent or more by weight of wool measuring 18.5 microns in diameter or finer, knit-to-shape in one or more beneficiary sub-Saharan African countries.

Grouping 8—Apparel articles wholly assembled in one or more beneficiary sub-Saharan African countries from fabric or yarn not formed in the United States or any beneficiary sub-Saharan African country, if (1) apparel articles of such fabrics or yarns would be eligible for preferential treatment, without regard to the source of the fabric or yarn, under Annex 401 to the North American Free Trade Agreement, or (2) the President proclaims that apparel articles of such fabric or yarn may be accorded preferential tariff treatment under the AGOA.

Grouping 9—Handmade, handloomed, or folklore articles (qualifying articles will be determined following bilateral consultations).

2. Date of Issuance. The date of issuance shall be the day, month, and year on which the visa was signed by an authorized government official.

3. Authorized Signature. The original signature of an authorized official of the beneficiary sub-Saharan African country or his designate.

4. Correct Grouping and Quantity. The correct grouping, the total quantity, and the unit of quantity in the shipment shall be provided within the visa stamp.

Quantities must be stated in whole numbers. Decimals or fractions shall not be accepted. If the quantity indicated on the visa is less than that of the shipment, only the quantity shown on the visa is eligible for preferential tariff treatment under section 112(a) of the AGOA. If the quantity indicated on the visa is more than that of the shipment, only the quantity of the shipment is eligible for preferential tariff treatment under section 112(a) of the AGOA. Any overage cannot be applied to any other shipment.

A visa shall not be accepted and preferential tariff treatment under section 112(a) of the AGOA shall not be permitted if the visa number, date of issuance, authorized signature, correct grouping, quantity or the unit of quantity is missing, incorrect, illegible or has been crossed out or altered in any way. If the visa is not acceptable, a new visa must be obtained from an authorized official of the beneficiary sub-Saharan African country, or his designate, before preferential tariff treatment under section 112(a) of the AGOA can be claimed. Waivers are not permitted. If the visaed invoice is deemed invalid, the Customs Service will not return the original document after entry, but will provide a certified copy of that visaed invoice for use in obtaining a new correct original visaed invoice.

The product groupings described above are in summary form. Interested persons should refer to section 112(b) of the AGOA for a complete description of the textile and apparel products for which preferential treatment may be claimed under section 112(a) of the AGOA.

This letter will be published in the Federal Register.

Sincerely,

Charlene Barshefsky.

[FR Doc. 01-2210 Filed 1-24-01; 8:45 am]

BILLING CODE 3190-01-U